SECURITIES AND EXCHANGE COMMISSION

Sunshine Act Meeting

Federal Register Citation of Previous Announcement: 69 FR 10278, March 4, 2004.

Status: Closed Meeting.

Place: 450 Fifth Street, NW., Washington, DC.

Date and Time of Previously Announced Meeting: Tuesday, March 9, 2004 at 2 p.m.

Change in the Meeting: Deletion of Items.

The following items will not be considered during the Closed Meeting on March 9, 2004:

Settlement of an administrative proceeding; and

A litigation matter.

Commissioner Goldschmid, as duty officer, determined that no earlier notice thereof was possible.

At times, changes in Commission priorities require alterations in the scheduling of meeting items. For further information and to ascertain what, if any, matters have been added, deleted or postponed, please contact the Office of the Secretary at (202) 942-7070.

Dated: March 5, 2004.
Margaret H. McFarland,
Deputy Secretary.

[FR Doc. 04-5507 Filed 3-8-04; 1:11 pm]

BILLING CODE 8010-01-P